SMALL BUSINESS ADMINISTRATION

Declaration of Disaster #P047; State of Kansas; Amendment #2

In accordance with a notice received from the Department of Homeland Security—Federal Emergency Management Agency, effective July 25, 2004, the above numbered declaration is hereby amended to establish the incident period for this disaster as beginning on June 12, 2004, and continuing through July 25, 2004.

All other information remains the same, i.e., the deadline for filing applications for physical damage is October 4, 2004.

(Catalog of Federal Domestic Assistance Program Nos. 59008)

Dated: August 20, 2004.
Cheri L. Cannon,
Acting Associate Administrator for Disaster Assistance.

[FR Doc. 04-19758 Filed 8-27-04; 8:45 am]

BILLING CODE 8025-01-P